ENVIRONMENTAL PROTECTION AGENCY

[FRL-8575-7]

Science Advisory Board Staff Office; Notification of Upcoming Meetings of the Science Advisory Board; Ecological Processes and Effects Committee Augmented for the Advisory on EPA's Aquatic Life Water Quality Criteria

AGENCY: Environmental Protection Agency (EPA).

ACTION: Notice.

SUMMARY: The Environmental Protection Agency (EPA or Agency) Science Advisory Board (SAB) Staff Office announces a public teleconference and a public meeting of the SAB Ecological Processes and Effects Committee Augmented for the Advisory on EPA's Aquatic Life Water Quality Criteria. The teleconference and meeting are being held to provide advice on a methodology for deriving water quality criteria for the protection of aquatic life based on chemical mode of action.

DATES: The public teleconference will be held on Monday, June 23, 2008, from 1 p.m. to 4 p.m. (Eastern Daylight Time). The public meeting will be held on Monday, June 30, 2008, from 8:30 a.m. to 5:30 p.m. through Tuesday, July 1, 2008, from 8 a.m. to approximately 12:30 p.m. (Eastern Daylight Time). The teleconference and meeting agendas will be posted on the SAB Web site at http://www.epa.gov/sab.

ADDRESSES: The public meeting of the Committee will be held in the SAB Conference Center, located at 1025 F Street, NW., Room 3705, Washington, DC 20004.

FOR FURTHER INFORMATION CONTACT: Members of the public who wish to obtain the teleconference call-in number and access code; or receive further information concerning the teleconference or meeting must contact Dr. Thomas Armitage, Designated Federal Officer (DFO). Dr. Armitage may be contacted at the EPA Science Advisory Board (1400F), U.S. Environmental Protection Agency, 1200 Pennsylvania Avenue, NW., Washington, DC 20460; or via telephone/voice mail: (202) 343-9995; fax (202) 233-0643; or e-mail at armitage.thomas@epa.gov. General information about the EPA SAB, as well as any updates concerning the teleconference and meeting announced in this notice, may be found in the SAB Web site at http://www.epa.gov/sab.

SUPPLEMENTARY INFORMATION: Pursuant to the Federal Advisory Committee Act, Public Law 92-463, notice is hereby given that the SAB Ecological Processes and Effects Committee will hold a public meeting to provide advice on a methodology for deriving water quality criteria for the protection of aquatic life based on chemical mode of action. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The Clean Water Act authorizes the EPA Administrator to develop and publish criteria for water quality that are protective of aquatic life. Traditionally, ambient water quality criteria for the protection of aquatic life have been derived using EPA's 1985 Guidelines for Deriving Numerical National Water Quality Criteria for the Protection of Aquatic Life and Their Uses (Guidelines). To ensure the protection of aquatic life and meet a goal of protecting and restoring ecological integrity, the Guidelines established comprehensive toxicity test data requirements for a variety of aquatic organisms and procedures for deriving a scientifically defensible criterion that protects the aquatic life designated use. However, some emerging contaminants, such as pharmaceuticals and personal care products exhibiting endocrine disrupting activity or other toxic mechanisms, have features that require additional consideration when applying the Guidelines. These chemicals may demonstrate low acute toxicity but cause significant reproductive effects at very low levels of exposure. In addition, the effects of exposure to aquatic organisms during the early stages of life may not be observed until adulthood. Therefore, traditional chronic toxicity test endpoints may not be sufficiently comprehensive for criteria derivation for these chemicals. These chemicals also have very specific modes of action that may affect only certain types of aquatic animals (e.g., vertebrates such as fish).

EPA's Office of Water has developed a white paper describing technical issues in deriving aquatic life criteria for emerging contaminants and recommendations for developing such criteria. The white paper uses a model endocrine disrupter to illustrate issues relevant to the process. The Office of Water has asked the Science Advisory Board (SAB) to comment on scientific merit of the recommendations.

For this particular advisory the SAB Staff Office has invited several additional experts to augment the Ecological Processes and Effects Committee. Background information on the Committee formation process was provided in a Federal Register Notice published on May 2, 2008 (73 FR 24285-24286). The roster and biosketches of members of the Ecological Processes and Effects Committee Augmented for the Advisory on EPA's Aquatic Life Water Quality Criteria are posted on the SAB Web site at http://www.epa.gov/sab.

Availability of Meeting Materials: A white paper describing the technical challenges and recommendations for deriving aquatic life criteria for emerging contaminants will be reviewed by the SAB Committee. The white paper will be posted on the EPA Office of Water Web site at http://www.epa.gov/waterscience/criteria/aqlife.html. The technical contact for the EPA's white paper is Mr. Joseph Beaman, EPA Office of Water. Mr. Beaman may be contacted by telephone at 202-566-0420 or via e-mail at Beaman.joe@epa.gov. The agenda and other material for the upcoming public meeting will be posted on the SAB Web site at http://www.epa.gov/sab.

Procedures for Providing Public Input: Interested members of the public may submit relevant written or oral information for the SAB Panel to consider on the topics included in this advisory activity.

Oral Statements: In general, individuals or groups requesting an oral presentation at a public teleconference will be limited to three minutes per speaker, with no more than a total of 30 minutes for all speakers. Individuals or groups requesting an oral presentation at a public meeting will be limited to five minutes per speaker, with no more than a total of one hour for all speakers. Interested parties should contact Dr. Armitage, DFO, in writing (preferably via e-mail) at the contact information noted above, by June 16, 2008 to be placed on the list of public speakers for the teleconference, and by June 23, 2008 to be placed on a list of public speakers for the meeting.

Written Statements: Written statements should be received in the SAB Staff Office by June 16, 2008 for the teleconference and by June 23, 2008 for the meeting so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Armitage at the phone number or e-mail address noted above, preferably at least ten days prior to the meeting to give EPA as much time as possible to process your request.

Dated: May 28, 2008.
Vanessa T. Vu,
Director, EPA Science Advisory Board Staff Office.

[FR Doc. E8-12495 Filed 6-3-08; 8:45 am]

BILLING CODE 6560-50-P